DEPARTMENT OF THE TREASURY

Departmental Offices; Notice of Availability of the Treasury Department's Annual Report on Alternative Fuel Vehicle Acquisitions

AGENCY: Departmental Offices, Treasury.

ACTION: Notice.

SUMMARY: This notice advises the public how it may access the Treasury Department's annual report on alternative fuel vehicle acquisitions for FY 2003.

FOR FURTHER INFORMATION CONTACT: Carolyn Austin-Diggs, Director, Office of Asset Management, 202-622-0500 (not a toll-free call).

SUPPLEMENTARY INFORMATION: In accordance with section 8 of the Energy Policy Act, Public Law 105-38, as amended (42 U.S.C. 13218), the Department of the Treasury gives notice that the Department's annual report on alternative fuel vehicle acquisitions for FY 2003 is available at the following Web site: http://www.treas.gov/offices/management/asset-management/personal-property/fleet-and-aviation.

Dated: May 7, 2004.
Barry K. Hudson,
Acting Chief Financial Officer.

[FR Doc. 04-11161 Filed 5-17-04; 8:45 am]

BILLING CODE 4810-25-P